DEPARTMENT OF ENERGY

Federal Energy Regulatory Commission

[Docket No. AD09-9-000]

Small Hydropower Development in the United States; Notice of Small/Low-Impact Hydropower Webinar

The Federal Energy Regulatory Commission will host a Small/Low-Impact Hydropower Webinar on January 25, 2012, from 12:00 noon to 1:30 p.m. Eastern Standard Time. The webinar will be open to the public and advance registration is required.

The purpose of this webinar is to provide guidance on small/low-impact hydropower projects being developed in the Northeast region of the United States. Specifically, the webinar will provide the opportunity for participants to learn what types of hydropower projects qualify as a 5-megawatt (MW) exemption, how to file a complete application for these types of projects, and what to do if a project does not qualify for an exemption. Additionally, participants have the opportunity to ask questions and learn how to get more information and assistance from FERC staff.

To register for this webinar, please go to https://www.ferc.gov/whats-new/registration/hydro-webinar-1-25-12-form.asp. Registration will be open until January 18, 2012. Once registered, you will receive a confirmation email containing information about joining the webinar.

For more information about this webinar, please contact Shana Murray at (202) 502-8333 or shana.murray@ferc.gov.

Dated: December 21, 2011.
Kimberly D. Bose,
Secretary.

[FR Doc. 2011-33311 Filed 12-28-11; 8:45 am]

BILLING CODE 6717-01-P